DEPARTMENT OF ENERGY

Federal Energy Regulatory Commission

[Docket No. PF03-6-000]

Sound Energy Solutions, POLB Application No. HDP 03-079; Notice of Intent To Prepare a Joint Environmental Impact Statement and Notice of Preparation of Joint Environmental Impact Report, Application Summary Report for SES' Proposed Long Beach LNG Import Project, Request for Comments on Environmental Issues, and Notice of Public Scoping Meeting

September 22, 2003.

The staffs of the Federal Energy Regulatory Commission (FERC or Commission) and the Port of Long Beach (POLB or Port) will jointly prepare an environmental impact statement, an environmental impact report, and an application summary report (EIS/EIR/ASR) on Sound Energy Solutions' (SES) proposed Long Beach LNG Import Project. This notice announces the opening of the scoping process we ¹ will use to gather input from the public and interested agencies on the project. Your input will help us determine which issues need to be evaluated in the EIS/EIR/ASR. Please note that the scoping period will close on October 30, 2003.

¹ “We,” “us,” and “our” refer to the environmental staffs of the FERC's Office of Energy Projects and the POLB.

Comments may be submitted in written form or verbally. Further details on how to submit written comments are provided in the public participation section of this notice. In lieu of sending written comments, we invite you to attend the public scoping meeting we have scheduled as follows:

FERC/POLB Public Scoping Meeting, Long Beach LNG Import Project, October 9, 2003 at 7 p.m., Long Beach Convention & Entertainment Center, Seaside Meeting Room 301, (562) 436-3636.

The FERC will be the lead Federal agency in the preparation of the EIS/EIR/ASR and the POLB will be the lead state agency for California. The joint document will satisfy the requirements of both the National Environmental Policy Act (NEPA) and the California Environmental Quality Act (CEQA).

This notice is being sent to affected landowners; POLB tenants; Federal, state, and local government agencies; elected officials; environmental and public interest groups; Native American tribes; other interested parties; and local libraries and newspapers. We encourage government representatives to notify their constituents of this planned project and encourage them to comment on their areas of concern.

Summary of the Proposed Project

SES proposes to construct and operate a liquefied natural gas (LNG) import terminal facility on a 27-acre site on a portion of Pier T, designated Berth T-126, on Terminal Island within the Port of Long Beach, California. The proposed site, which was formerly part of a naval shipyard, would require a limited amount of dredging (between 75,000 and 125,000 cubic yards) to support the ship berth and achieve uniform water depth. The dredged material would be disposed of in a confined landfill within the Port. The project would not require the intake or discharge of sea water and/or process water. During construction, SES would require an additional 20- to 30-acre site in the project area for materials storage and fabrication. The location of this construction laydown area has not yet been identified.

The Long Beach LNG Import Project would provide about 700 million standard cubic feet of natural gas per day to the local transmission and distribution systems. In addition, a portion of the LNG would be distributed locally to fuel LNG-powered vehicles. According to SES, its project would provide large volumes of natural gas to southern California markets to enhance reliability of supply and ensure price competition. The distribution of LNG as vehicle fuel would enable diesel trucks and other vehicles to convert to natural gas, which would reduce vehicle pollutant emissions in the region.

The project facilities would include:

• a ship berth and unloading facilities capable of receiving LNG tankers ranging in capacity from 95,000 to 145,000 cubic meters;

• two LNG storage tanks, each with a capacity of 160,000 cubic meters;

• vaporization equipment, boil-off gas compressors, and natural gas liquids recovery system;

• truck loading facilities;

• associated hazard detection, control, and prevention systems;

• ancillary service facilities; and

• up to 4.4 miles of pipeline currently proposed to interconnect with the existing Southern California Gas Company pipeline system.

Maps depicting the proposed terminal site, site layout, and various pipeline routes under consideration are provided in appendix 1.²

² The appendices referenced in this notice are not being printed in the Federal Register. Copies are available on the Commission's Internet Web site (http://www.ferc.gov) at the “eLibrary” link or from the Commission's Public Reference and Files Maintenance Branch at (202) 502-8371. For instructions on connecting to eLibrary, refer to the end of this notice. Copies of the appendices were sent to all those receiving this notice in the mail.

SES proposes to place the project in service in late 2007 or early 2008. To achieve this in-service date, SES is requesting approval to begin construction of the terminal facilities in the fall of 2004. The approximate duration of construction would be 3 years.

The EIS/EIR/ASR Process

The FERC will use the EIS/EIR/ASR to consider the environmental impact that could result if it issues SES an Order Authorizing Approval of a Place of Import under Section 3 of the Natural Gas Act. The POLB will use the document to determine the project's consistency with the certified Port Master Plan and the California Coastal Act as well as to consider the environmental impact that could result if it issues SES a Harbor Development Permit.

This notice formally announces our preparation of the EIS/EIR/ASR and the beginning of the process referred to as “scoping.” We are soliciting input from the public and interested agencies to help us focus the analysis in the EIS/EIR/ASR on the potentially significant environmental issues related to the proposed action.

Our independent analysis of the issues will be included in a draft EIS/EIR/ASR. The draft EIS/EIR/ASR will be mailed to Federal, state, and local government agencies; elected officials; environmental and public interest groups; Native American tribes; affected landowners; POLB tenants; other interested parties; local libraries and newspapers; and the FERC’s official service list for this proceeding. A 45-day comment period will be allotted for review of the draft EIS/EIR/ASR. We will consider all comments on the draft EIS/EIR/ASR and revise the document, as necessary, before issuing a final EIS/EIR/ASR.

The POLB is initiating its CEQA review based on SES' submittal of a Harbor Development Permit application on July 25, 2003. Although no formal application for import authorization has been filed, the FERC staff is initiating its NEPA review now. The purpose of the FERC's NEPA Pre-filing Process is to encourage the early involvement of interested stakeholders and to identify and resolve issues before an application is filed with the FERC. The POLB has agreed to conduct its CEQA review in conjunction with the NEPA Pre-filing Process. A diagram depicting the lead agencies' joint environmental review process is attached to this notice as appendix 2.

We have held early discussions with other jurisdictional agencies to identify their issues and concerns. These agencies include the California Coastal Commission; California Department of Fish and Game; National Marine Fisheries Service; Regional Water Quality Control Board, Los Angeles Region; South Coast Air Quality Management District; U.S. Army Corps of Engineers (ACOE), U.S. Coast Guard; and U.S. Fish and Wildlife Service. By this notice, we are asking these and other Federal, state, and local agencies with jurisdiction and/or special expertise with respect to environmental issues to formally cooperate with us in the preparation of the EIS/EIR/ASR. Agencies that would like to request cooperating status should follow the instructions for filing comments provided below. Currently, the ACOE has expressed its intention to participate as a cooperating agency in the preparation of the EIS/EIR/ASR to satisfy its NEPA responsibilities under Section 404 of the Clean Water Act and Section 10 of the Rivers and Harbors Act.

Public Participation

You can make a difference by providing us with your specific comments or concerns about the proposal. Your comments should focus on the potential environmental effects, reasonable alternatives (including alternative terminal sites and pipeline routes), and measures to avoid or lessen environmental impact. The more specific your comments, the more useful they will be. To ensure that your comments are timely and properly recorded, please mail your comments so that they will be received in Washington, DC on or before October 30, 2003, and carefully follow these instructions:

• Send an original and two copies of your letter to:

Magalie R. Salas, Secretary, Federal Energy Regulatory Commission, 888 First St., NE., Room 1A, Washington, DC 20426;

• Label one copy of your comments for the attention of Gas Branch 1, DG2E;

• Reference Docket No. PF03-6-000 on the original and both copies;

• Send an additional copy of your letter to: Robert Kanter, Ph.D., Planning Division, 925 Harbor Plaza, Port of Long Beach, Long Beach, CA 90807; and

• Reference Application No. HDP 03-079 on your letter.

The public scoping meeting to be held on October 9, 2003 at the Long Beach Convention & Entertainment Center is designed to provide another opportunity to offer comments on the proposed project. Interested groups and individuals are encouraged to attend the meeting and to present comments on the environmental issues they believe should be addressed in the EIS/EIR/ASR. A transcript of the meeting will be made so that your comments will be accurately recorded.

Please note that the FERC is continuing to experience delays in mail deliveries from the U.S. Postal Service. Therefore, the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

Availability of Additional Information

Additional information about the project is available from the Commission's Office of External Affairs at 1-866-208 FERC (3372) or on the FERC Internet Web site (http://www.ferc.gov ). Using the “eLibrary” link, select “General Search” from the eLibrary menu, enter the selected date range and “Docket Number” (i.e., PF03-6-000), and follow the instructions. Searches may also be done using the phrase “Long Beach LNG” in the “Text Search” field. For assistance with access to eLibrary, the helpline can be reached at 1-866-208-3676, TTY (202) 502-8659, or at FERCOnlineSupport@ ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Information about the project is also available from the POLB. You may call the POLB Environmental Planning Section at 562-590-4160 or e-mail questions and comments to the POLB at Crouch@POLB.com.

Finally, SES has established an Internet Web site for this project at http://www.soundenergysolutions.com. The Web site includes a description of the project, maps and photographs of the proposed site, SES' answers to frequently asked questions about LNG, and links to related documents.

Magalie R. Salas,
Secretary.

[FR Doc. 03-24639 Filed 9-29-03; 8:45 am]

BILLING CODE 6717-01-P